DEPARTMENT OF ENERGY

Federal Energy Regulatory Commission

Combined Notice of Filings #1

Take notice that the Commission received the following Complaints and Compliance filings in EL Dockets:

Docket Numbers: EL26-30-000.

Applicants: Independent Market Monitor for PJM v. PJM Interconnection, L.L.C.

Description: Complaint of Independent Market Monitor for PJM v. PJM Interconnection, L.L.C.

Filed Date: 11/25/25.

Accession Number: 20251125-5275.

Comment Date: 5 p.m. ET 12/15/25.

Take notice that the Commission received the following electric rate filings:

Docket Numbers: ER24-192-003.

Applicants: MRP Elgin LLC.

Description: Compliance filing: Compliance Filing of Tariff Records to Implement Settlement Rates to be effective 11/21/2023.

Filed Date: 11/26/25.

Accession Number: 20251126-5258.

Comment Date: 5 p.m. ET 12/17/25.

Docket Numbers: ER24-192-004.

Applicants: MRP Elgin LLC.

Description: Compliance filing: Compliance Filing of Tariff Records to Implement Settlement Rates to be effective 10/1/2024.

Filed Date: 11/26/25.

Accession Number: 20251126-5259.

Comment Date: 5 p.m. ET 12/17/25.

Docket Numbers: ER24-193-003.

Applicants: MRP Rocky Road LLC.

Description: Compliance filing: Compliance Filing of Tariff Records to Implement Settlement Rates to be effective 11/21/2023.

Filed Date: 11/26/25.

Accession Number: 20251126-5261.

Comment Date: 5 p.m. ET 12/17/25.

Docket Numbers: ER24-193-004.

Applicants: MRP Rocky Road LLC.

Description: Compliance filing: Compliance Filing of Tariff Records to Implement Settlement Rates to be effective 10/1/2024.

Filed Date: 11/26/25.

Accession Number: 20251126-5262.

Comment Date: 5 p.m. ET 12/17/25.

Docket Numbers: ER25-3475-001.

Applicants: Branch Solar, LLC.

Description: Tariff Amendment: Branch Solar Amendment to MBR Application to be effective 12/31/9998.

Filed Date: 11/24/25.

Accession Number: 20251124-5427.

Comment Date: 5 p.m. ET 12/15/25.

Docket Numbers: ER26-224-000.

Applicants: Lake Lynn Generation, LLC.

Description: Report Filing: Supplement to filing 1502 to be effective N/A.

Filed Date: 11/26/25.

Accession Number: 20251126-5270.

Comment Date: 5 p.m. ET 12/17/25.

Docket Numbers: ER26-517-001.

Applicants: Canal Marketing LLC.

Description: Tariff Amendment: Corrected IROL-CIP Rate Schedule 17 (ER26-517-) to be effective 1/13/2026.

Filed Date: 11/26/25.

Accession Number: 20251126-5243.

Comment Date: 5 p.m. ET 12/17/25.

Docket Numbers: ER26-602-000.

Applicants: Southern California Edison Company.

Description: Informational Filing of 2026 Formula Rate Annual Update of Southern California Edison Company.

Filed Date: 11/21/25.

Accession Number: 20251121-5656.

Comment Date: 5 p.m. ET 12/12/25.

Docket Numbers: ER26-603-000.

Applicants: Southern California Edison Company.

Description: Informational Filing of 2026 West of Devers Formula Rate Annual Update of Southern California Edison Company.

Filed Date: 11/21/25.

Accession Number: 20251121-5657.

Comment Date: 5 p.m. ET 12/12/25.

Docket Numbers: ER26-604-000.

Applicants: PJM Interconnection, L.L.C.

Description: § 205(d) Rate Filing: DEA, SA No. 7755 between PJM and PPL Electric Utilities Corporation to be effective 10/29/2025.

Filed Date: 11/25/25.

Accession Number: 20251125-5349.

Comment Date: 5 p.m. ET 12/16/25.

Docket Numbers: ER26-606-000.

Applicants: North Johnson Energy Center, LLC.

Description: Initial Rate Filing: Application for Market Based Rate to be effective 1/15/2026.

Filed Date: 11/26/25.

Accession Number: 20251126-5003.

Comment Date: 5 p.m. ET 12/17/25.

Docket Numbers: ER26-608-000.

Applicants: Southwest Power Pool, Inc.

Description: Tariff Amendment: 4312 Pixley Solar Energy LLC Market Participant Agreement Cancellation to be effective 7/1/2025.

Filed Date: 11/26/25.

Accession Number: 20251126-5121.

Comment Date: 5 p.m. ET 12/17/25.

Docket Numbers: ER26-609-000.

Applicants: Midcontinent Independent System Operator, Inc., American Transmission Company LLC.

Description: § 205(d) Rate Filing: American Transmission Company LLC submits tariff filing per 35.13(a)(2)(iii: 2025-11-26_SA 4598 ATC-Evansville CFA to be effective 11/27/2025.

Filed Date: 11/26/25.

Accession Number: 20251126-5126.

Comment Date: 5 p.m. ET 12/17/25.

Docket Numbers: ER26-610-000.

Applicants: Midcontinent Independent System Operator, Inc., American Transmission Company LLC.

Description: § 205(d) Rate Filing: American Transmission Company LLC submits tariff filing per 35.13(a)(2)(iii: 2025-11-26_SA 4600 ATC-OFMU D-TIA to be effective 11/27/2025.

Filed Date: 11/26/25.

Accession Number: 20251126-5135.

Comment Date: 5 p.m. ET 12/17/25.

Docket Numbers: ER26-611-000.

Applicants: Midcontinent Independent System Operator, Inc., American Transmission Company LLC.

Description: § 205(d) Rate Filing: American Transmission Company LLC submits tariff filing per 35.13(a)(2)(iii: 2025-11-26_SA 4601 ATC-OFMU CFA to be effective 11/27/2025.

Filed Date: 11/26/25.

Accession Number: 20251126-5154.

Comment Date: 5 p.m. ET 12/17/25.

Docket Numbers: ER26-612-000.

Applicants: Midcontinent Independent System Operator, Inc., MidAmerican Energy Company.

Description: § 205(d) Rate Filing: MidAmerican Energy Company submits tariff filing per 35.13(a)(2)(iii: 2025-11-26_SA 4603 MEC-MEC E&P (S1111) to be effective 11/25/2025.

Filed Date: 11/26/25.

Accession Number: 20251126-5162.

Comment Date: 5 p.m. ET 12/17/25.

Docket Numbers: ER26-613-000.

Applicants: Southern California Edison Company.

Description: § 205(d) Rate Filing: IFA, Data Centers Two Load Project, WDT1810, SA # 1395 to be effective 11/27/2025.

Filed Date: 11/26/25.

Accession Number: 20251126-5213.

Comment Date: 5 p.m. ET 12/17/25.

Docket Numbers: ER26-614-000.

Applicants: Niyol Energy Storage, LLC.

Description: § 205(d) Rate Filing: Niyol Energy Storage, LLC—Application for Market-Based Rate Authorization to be effective 1/26/2026.

Filed Date: 11/26/25.

Accession Number: 20251126-5277.

Comment Date: 5 p.m. ET 12/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation contact OPP at (202) 502-6595 or OPP@ferc.gov.

Dated: November 26, 2025.
Carlos D. Clay,
Deputy Secretary.

[FR Doc. 2025-21762 Filed 12-1-25; 8:45 am]

BILLING CODE 6717-01-P